DEPARTMENT OF COMMERCE

Foreign-Trade Zones Board

[B-61-2012]

Foreign-Trade Zone 90—Onondaga County, NY Application for Expansion and Reorganization Under Alternative Site Framework

An application has been submitted to the Foreign-Trade Zones (FTZ) Board (the Board) by the County of Onondaga, grantee of FTZ 90, requesting authority to reorganize the zone under the alternative site framework (ASF) adopted by the Board (15 CFR Sec. 400.2(c)). The ASF is an option for grantees for the establishment or reorganization of zones and can permit significantly greater flexibility in the designation of new subzones or “usage-driven” FTZ sites for operators/users located within a grantee's “service area” in the context of the Board's standard 2,000-acre activation limit for a zone. The application was submitted pursuant to the Foreign-Trade Zones Act, as amended (19 U.S.C. 81a-81u), and the regulations of the Board (15 CFR part 400). It was formally filed on August 6, 2012.

FTZ 90 was approved by the Board on November 4, 1983 (Board Order 230, 48 FR 52108, 11-16-1983) and expanded on March 12, 1999 (Board Order 1030, 64 FR 14212, 3-24-1999). The current zone includes the following site: Site 1 (22 acres)—Woodard Industrial Park, Steelway Boulevard, Clay.

The grantee's proposed service area under the ASF would be Onondaga, Cayuga, Oswego and Madison Counties, New York, as described in the application. If approved, the grantee would be able to serve sites throughout the service area based on companies' needs for FTZ designation. The proposed service area is within and adjacent to the Syracuse Customs and Border Protection port of entry.

The applicant is requesting authority to reorganize its existing zone project by removing existing Site 1 and designating two new sites as “magnet” sites: Proposed Site 2 (339.41 acres)—Clay Business Park, NYS Route 31 and Caughdenoy Road, Clay, Onondaga County; and, Proposed Site 3 (35.98 acres)—Port of Oswego, 1 East Second Street, Oswego, Oswego County. The application would have no impact on FTZ 90's previously authorized subzones.

In accordance with the Board's regulations, Elizabeth Whiteman of the FTZ Staff is designated examiner to evaluate and analyze the facts and information presented in the application and case record and to report findings and recommendations to the Board.

Public comment is invited from interested parties. Submissions shall be addressed to the Board's Executive Secretary at the address below. The closing period for their receipt is October 9, 2012. Rebuttal comments in response to material submitted during the foregoing period may be submitted during the subsequent 15-day period to October 24, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Elizabeth Whiteman at Elizabeth.Whiteman@trade.gov or (202) 482-0473.

Dated: August 6, 2012.
Andrew McGilvray,
Executive Secretary.

[FR Doc. 2012-19678 Filed 8-9-12; 8:45 am]

BILLING CODE P